DEPARTMENT OF TRANSPORTATION

Federal Aviation Administration

14 CFR Part 39

[Docket No. FAA-2013-0752; Directorate Identifier 2009-SW-44-AD]

RIN 2120-AA64

Airworthiness Directives; Pacific Scientific Aviation Services (Pacific Scientific) Seat Restraint System Rotary Buckle Assemblies

AGENCY: Federal Aviation Administration (FAA), DOT.

ACTION: Notice of proposed rulemaking (NPRM).

SUMMARY: We propose to adopt a new airworthiness directive (AD) for the specified Pacific Scientific seat restraint rotary buckle assemblies (buckle). This proposed AD is prompted by several reports of a cracked handle on certain buckles. Testing on these buckles indicates that in some circumstances a load placed on the restraint system prevents a strap from releasing as intended when the buckle is rotated. The proposed actions are intended to replace cracked buckle handles and allow the release of the restraint system strap in an emergency.

DATES: We must receive comments on this proposed AD by November 4, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Pacific Scientific Aviation Services, 11700 NW 102nd Rd. #6, Miami, Florida 33178, telephone 305-477-4711, fax 305-477-9799 or at www.pacscimiami. You may review a copy of the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Community, has issued EASA AD No. 2007-0256, dated September 19, 2007, to correct an unsafe condition for certain Pacific Scientific Seat Restraint System Plastic Rotary Buckle Handles. According to EASA, Pacific Scientific reports several instances of cracked handles on certain buckles with a date of manufacture from November 2004 through May 2007. Testing on buckles with a cracked handle indicates that in some circumstances a load placed on the restraint system prevents a strap from releasing as intended when the buckle is rotated. EASA states that these circumstances happen when a passenger weighs more than 50 kg (approximately 110 lbs.) and an aircraft is upside down. The EASA AD also states that these circumstances are considered “possible to take place for helicopters only and not for large aeroplanes.”

Further, EASA states that buckle part numbers 1111430-XX and 1111475-XX, manufactured from November 2004 through May 2007, are used in 7 part-numbered restraint systems, which are known to be installed on, but not limited to, Eurocopter France Model AS350, AS355, EC120, EC 130, and EC155 helicopters.

The proposed actions are intended to prevent a buckle from not releasing the restraint system strap in an emergency.

FAA's Determination

This product has been approved for operation in the United Kingdom and is approved for operation in the United States. Pursuant to our bilateral agreement with the United Kingdom, EASA, its technical representative, has notified the FAA of the situation described in its AD. We are proposing this AD because we evaluated all known relevant information and determined that an unsafe condition is likely to exist or develop on other products of this same type design.

Related Service Information

Pacific Scientific has issued Service Bulletin 25-1111432, dated May 22, 2007 (SB). The SB specifies inspecting each buckle, part number (P/N) 1111430-XX or 1111475-XX with a date of manufacture between November 2004 and May 2007, to identify whether the handle is one susceptible to cracking by checking the P/N on the reverse side of the buckle assembly against the P/N listed in Appendix 1 of the SB or by measuring the thickness of the handle vane. If the buckle is identified as a “suspect” buckle, the SB provides procedures for removing the buckle and replacing it with an acceptable buckle. Information in the SB also advises that buckles with a cracked handle should be removed from service immediately.

Proposed AD Requirements

This proposed AD would require, within 30 days, inspecting each buckle for a crack and replacing any cracked buckle with an airworthy buckle by complying with paragraph 9 of the SB. Also, within 6 months, this proposed AD would require inspecting the thickness of the buckle handle vane and replacing any buckle with a handle vane thickness of 0.125 inch or greater. Lastly, this proposed AD would prohibit installing an affected buckle on any helicopter or airplane.

Differences Between This Proposed AD and the EASA AD

The EASA AD applies to certain Eurocopter model helicopters only. Since the affected buckles may be installed in other aircraft resulting in the same unsafe condition, this proposed AD would also apply to those aircraft. We would not require you to return the unairworthy buckle assembly to the manufacturer, and this AD would not apply to “spare” parts that are not installed on an aircraft. Also, this AD would apply to buckle P/Ns 1111430 and 1111475, all dash numbers, and would not be dependent on the restraint P/Ns. This AD would not require an inspection for cracks “before any flight” for the 6 months until the affected buckles are replaced. Finally, the EASA AD identifies suspect parts by date of manufacture, and this AD would not.

Costs of Compliance

We estimate that this proposed AD would affect 1,435 restraint systems installed on aircraft of U.S. registry. We estimate that operators may incur the following costs in order to comply with this AD:

• A minimal cost and amount of time to inspect for an affected buckle.

• $43 in labor costs for 0.5 hour to replace any affected buckle at an estimated labor cost of $85 per work-hour.

• $250 for required parts to replace a buckle.

Based on these figures, we estimate the cost of the proposed AD on U.S. operators would be $293 per restraint system or $420,455 for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pacific Scientific Aviation Services: Docket No. FAA-2003-0752; Directorate Identifier 2009-SW-44-AD.

(a) Applicability

This AD applies to Pacific Scientific rotary buckle assembly (buckle), part number (P/N) 1111430 or 1111475, all dash numbers, installed on but not limited to Cessna Aircraft Company, de Havilland, Inc. (TC currently held by Viking Air Limited), and Learjet Inc. model airplanes and Eurocopter France model helicopters, certificated in any category.

(b) Unsafe Condition

This AD defines the unsafe condition as a cracked rotary buckle handle, which could prevent a strap from releasing as intended when the buckle is rotated.

(c) Compliance

You are responsible for performing each action required by this AD within the specified compliance time unless it has already been accomplished prior to that time.

(d) Comments Due Date

We must receive comments by November 4, 2013.

(e) Required Actions

(1) Within 30 days, inspect the buckle handle for a crack. If the buckle handle is cracked, before further flight, remove the buckle as depicted in Figure 5 and by following the Procedures, paragraph 9, of Pacific Scientific Service Bulletin (SB) 25-1111432, dated May 22, 2007, and replace it with an airworthy buckle, except you are not required to return the removed buckle to Pacific Scientific.

(2) Within 6 months, measure the thickness of the buckle handle vane as depicted in Figure 3 of the SB. If the handle vane thickness is 0.125 inch or greater, before further flight, remove the buckle from service and replace it with an airworthy buckle.

(3) Do not install a buckle or a restraint system with a buckle, P/N 1111430 or 1111475, all dash numbers, with a handle vane thickness of 0.125 inch or greater on any helicopter or airplane.

(f) Alternative Methods of Compliance (AMOC)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a part 119 operating certificate or under part 91, Subpart K, we suggest that you notify your principal inspector, or lacking a principal inspector, the manager of the local flight standards district office or certificate holding district office before operating any aircraft complying with this AD through an AMOC.

(g) Additional Information

(1) You may review a copy of the service information at the FAA, Office of the Regional Counsel, Southwest Region, 2601 Meacham Blvd., Room 663, Fort Worth, Texas 76137.

(2) The subject of this AD is addressed in European Aviation Safety Agency AD No.2007—0256, dated September 19, 2007.

(h) Subject

Joint Aircraft Service Component (JASC) Code: 2500 Cabin Equipment/Furnishings.

Issued in Fort Worth, Texas, on August 22, 2013.
Kim Smith,
Manager, Rotorcraft Directorate, Aircraft Certification Service.

[FR Doc. 2013-21570 Filed 9-4-13; 8:45 am]

BILLING CODE 4910-13-P